DEPARTMENT OF TRANSPORTATION

Federal Aviation Administration

14 CFR Part 71

[Docket No. FAA 2003-16091; Airspace Docket No. 03-AGL-12]

RIN 2120-AA66

Establishment of Domestic VOR Federal Airway V-19; OH

AGENCY: Federal Aviation Administration (FAA), DOT.

ACTION: Final rule.

SUMMARY: This action establishes Domestic Very High Frequency Omni-directional Range (VOR) Federal Airway V-19 northeast of the Cincinnati, OH, VOR/Tactical Air Navigation (VORTAC). The FAA is taking this action to reduce congestion on VOR Federal Airway V-5 between Columbus, OH, and Cincinnati, OH, and to enhance the management of aircraft operations over the Cincinnati, OH area.

EFFECTIVE DATE: 0901 UTC, December 22, 2005.

FOR FURTHER INFORMATION CONTACT: Steve Rohring, Airspace and Rules, Office of System Operations Airspace and AIM, Federal Aviation Administration, 800 Independence Avenue, SW., Washington, DC 20591; telephone: (202) 267-8783.

SUPPLEMENTARY INFORMATION:

Background

On December 9, 2003, the FAA published in the Federal Register a notice of proposed rulemaking to establish V-19 northeast of the Cincinnati, OH, VORTAC to reduce congestion on V-5 between Columbus, OH, and Cincinnati, OH, and to enhance the management of aircraft operations over the Cincinnati, OH, area (68 FR 68576). Interested parties were invited to participate in this rulemaking effort by submitting written comments on this proposal to the FAA. No comments were received in response to the proposal. With the exception of editorial changes, this amendment is the same as that proposed in the notice.

Domestic VOR Federal airways are published in paragraph 6010(a) of FAA Order 7400.9N dated September 1, 2005, and effective September 16, 2005, which is incorporated by reference in 14 CFR 71.1. The Federal airway listed in this document will be published subsequently in the order.

The Rule

This action amends Title 14 Code of Federal Regulations (14 CFR part 71) by establishing V-19 in the Cincinnati, OH, area. Specifically, this action establishes V-19 between Columbus, OH, and Cincinnati, OH, to the south of V-5 and to the north of the Buckeye Military Operations Area. The FAA is taking this action to reduce congestion on V-5 and to enhance the management of aircraft operations over the Cincinnati, OH, area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9N, Airspace Designations and Reporting Points, dated September 1, 2005, and effective September 16, 2005, is amended as follows:

Paragraph 6010(a) Domestic VOR Federal Airways.

* * * * *

V-19 (New)

From Cincinnati, OH; INT Cincinnati 063° and Appleton, OH, 229° radials; Appleton.

* * * * *

Issued in Washington, DC, on September 12, 2005.
Edith V. Parish,
Acting Manager, Airspace and Rules.

[FR Doc. 05-18502 Filed 9-16-05; 8:45 am]

BILLING CODE 4910-13-P